DEPARTMENT OF AGRICULTURE

Forest Service

Draft Environmental Impact Statement, Trail 1135 Analysis and Parking Area Development, Medicine Bow-Routt National Forests, Jackson County, Colorado

AGENCY: Forest Service, USDA.

ACTION: Notice of availability.

SUMMARY: The Forest Service has prepared a Draft Environmental Impact Statement (DEIS) to assess and disclose the environmental effects of determining the future status of Forest Development Trail (FDT) 1135 (Arapaho Ridge Trail) and creating trailhead parking areas at both ends of the trail. FDT 1135 is located on the Routt National Forest in Jackson County, Colorado. Trailhead parking areas would be rough surfaced, and would be built to accommodate horse trailers and other recreational parking for approximately 12 vehicles. Short sections of trail (less than ¼ mile) would be relocated at both ends to tie into parking areas. Forest Development Road (FDR) 711.11 and FDR 711.1A would be closed to motorized use. Physical barriers to prevent motorized access to the roads and trail would be installed where necessary. Informational signing, Interpretive Education bulletin boards, and other area improvements may also be installed in the future. Routine trail maintenance would occur on the rest of the trail, where needed. Installation of these amenities would be based on public need and the Forest Service budget.

The purpose and need for the proposal is to determine whether or not motorized use is appropriate on FDT 1135. Currently, the area around and including FDT 1135, FDR 711.1, and FDR 711.1A is in a non-motorized Forest Plan Management Area prescription. The analysis will determine the appropriate use of the trail, if user-conflicts or resource impacts are occurring as a result of existing motorized use of the trail, and the types of amenities and parking areas needed at each trailhead.

The Forest Service is giving notice that it has completed a draft environmental impact statement (DEIS) and decision-making process for this proposal so that potentially interested or affected individuals, agencies, or organizations can participate in the process and contribute to the final decision. The Preferred Alternative is the Proposed Action: to close FDT 1135 to all motorized use; nonmotorized use would be allowed to continue; close FDR 711.1 and FDR 711.1A to all motorized use; the development of parking areas, relocation of short sections of trail, installing physical barriers to prevent motorized access, and interpretive signing would be implemented with the final decision. All comments and suggestions on the scope of the analysis and decision-making process are welcome.

Scoping Efforts for the Draft EIS: On January 4, 2000, a formal scoping letter describing background information, purpose and need for the action, potential issues, and decisions to be made was mailed to roughly 60 interested and potentially affected individuals, groups, organizations, and agencies. In an attempt to inform the general public of the proposal, a press release was also mailed to local media contacts on January 6, 2000. Roughly 240 individual comment letters and 250 form letters were received in response to this scoping effort.

On July 5, 2000 a postcard indicating that the Forest Service was intending to prepare an EIS for the FDT 1135 proposal was mailed to all individuals who had submitted comments during the January 4, 2000 scoping effort. On July 25, 2000 the Notice of Intent to prepare an EIS was published in the Federal Register. Finally, on August 8, 2000 a press release notifying the general public of the Forest Service's intentions was mailed to local media contacts. An additional 126 comment letters were received in response to the Notice of Intent scoping effort.

SUPPLEMENTARY INFORMATION: Prior to revision of the 1997 Routt National Forest Plan, FDT 1135, FDR 711.1, and FDR 711.1A were located entirely within a Forest Plan Management Area that allowed motorized travel on designated routes. Consequently, the trail was managed to accommodate motorcycle use, as well as other non-motorized uses. Following revision of the Forest Plan, however, most of the area through which FDT 1135 and FDR 711.1 run was changed to a non-motorized Management Area prescription. As a result of this change, the middle portion (roughly 9 miles) of FDT 1135 and most of FDR 711.1 (roughly 1.5 miles), and parts of FDR 711.1A are now located in Forest Plan Management Area 1.32, Backcountry Recreation, Non-motorized with Limited Motorized Use in Winter, whereas both trailheads and roughly 3 miles of the trail are located in Management Area 5.13, Forest Products. Allowing motorized travel to continue on portions of the roads and trail currently falling within the non-motorized prescription conflicts with the 1997 Routt National Forest Plan.

Proposed Action: The Forest Service is proposing to close FDT 1135, FDR 711.1, and FDR 711.1A to all motorized use; all other forms of non-motorized recreation activities would continue to be allowed. The Forest Service would also create trailhead parking areas at both ends of the trail. The parking areas would be rough surfaced, and would be built to accommodate horse trailers and other recreational parking up to 12 vehicles. Physical barriers preventing motorized access to the trail would be installed. Short sections of less than ¼ mile of trail would be relocated to reroute the old trail to the new trailhead parking areas. Informational signing, Interpretive Education bulletin boards, and other area improvements may also be installed in the future. Installation of these amenities would be based on public need and the Forest Service budget.

Preliminary Issues: The following issues were identified as a result of the January 4, 2000 and July 25, 2000 scoping efforts:

• Implement the Revised Routt Forest Plan by closing FDT 1135 to motorized use.

• Amend the Revised Routt Forest Plan to allow continued motorized use.

• Reduce the size of the proposed parking areas.

• Construct physical barriers to prevent motorized use of the trail.

• User conflicts due to use of motorized vehicles in back country settings.

• User conflicts due to potentially reduced motorized trail opportunities.

• Resource impacts from motorized use of FDT 1135.

• Impacts to roadless areas from motorized use of FDT 1135.

• Motorized use of the Continental Divide National Scenic Trail (CDNST).

• Off-trail use by motorized vehicles.

• Inadequate trail signing.

• Increase law enforcement efforts.

Proposed Alternatives: The following alternatives were developed and analyzed in response to the issues identified above:

Proposed Action: Close FDT 1135, FDR 711.1, and FDR 711.1A to Motorized Use (Agency Preferred Alternative)

Under this alternative, the Forest Service would close FDT 1135, FDR 711.1, and FDR 711.1A to all motorized use; all other forms of non-motorized recreation activities would continue to be allowed. Specific components of this alternative include:

• Due to inadequate parking at the existing Grassy Run trailhead, the trailhead would be relocated roughly ¼ mile northeast on FDR 721 to an old clearcut area, and roughly 250 yards of new trail would be constructed to tile into Trail 1135. the old section of trail, between the old trailhead and where the newly constructed trail ties into Trail 1135, would be obliterated. Physical barriers to prevent motorized access of the trial would be installed.

• The Arapaho Ridge trailhead would also be relocated roughly ¼ mile east on FDR 700, and roughly ¼ mile of trail would be constructed to tie into the existing trail. Physical barriers to prevent motorized access of the trail would be installed.

• Physical barriers to prevent motorized access of FDR 711.1 would be installed.

• Gravel surfaced, loop parking areas approximately ¼ mile long would be created at each trailhead. The parking areas would include 12 pullouts, alternated on both side of the loop, and would be designed to accommodate trailer parking. In addition to day use parking areas, the pullouts could be used as dispersed campsites. Smaller parking areas for cars would also be created at each trailhead. The smaller parking areas would also be gravel surfaced.

• 3-panel bulletin boards would be installed at each new trailhead location to display user information.

• An interpretive sign explaining historic harvest activities would be installed at the Grassy Run trailhead on FDR 721.

Alternative 1: No Action

Under the No Action alternative, the Forest Service would allow continued motorized use of FDT 1135, FDR 711.1, and FDR 711.1A and would not amend the Routt National Forest Plan. Trailhead parking areas would not be created, physical barriers to the road and trail would not be installed, and informational signing and Interpretive Education bulletin boards would not be installed. This alternative would not comply with the Routt National Forest Plan; however, it provides a baseline to compare the effects of the action alternatives.

Alternative 2: Change the Management Area Prescription Surrounding FDT 1135, FDR 711.1, and FDR 711.1A to Accommodate Motorized Use

Under this alternative, the Forest Service would crate a motorized Management Area corridor around FDT 1135, FDR 711.1, and FDR 711.1A. This action would change a linear portion of the currently non-motorized Management Area prescription to one that accommodates motorized uses in back country settings for roughly 100 feet on either side of roads and trail. The Management Area change would affect roughly 9 miles of the trail and approximately 3 miles of road. All other activities associated with this alternative would be identical to the Proposed Action, except installation of physical barriers to the road and trail. Selection of this alternative would require an amendment to the Routt National Forest Plan.

Alternative 3: Change the Management Area Prescription Northwest of FDT 1135 and west of FDR 711.1 to 3.31—Backcountry Recreation, Year-round Motorized

Under this alternative, the Forest Service would change the Management Area prescription on the northwest side of FDT 1135 and west side FDR 711.1A from 1.32 (Backcountry Recreation, Non-motorized) to 3.31 (Backcountry Recreation, year-round Motorized). This would allow motorcycle use to continue on FDT 1135, FDR 711.1, and FDR 711.1A. All other activities associated with this alternative would be identical to the Proposed Action, except installation of physical barriers to the trail. Selection of this alternative would require an amendment to the Routt National Forest Plan.

Alternative 4: Change the Entire Management Area Prescription to 3.31—Backcountry Recreation, Year-round Motorized

Under this alternative, the Forest Service would change the entire Management Area prescription surrounding Trail 1135 from 1.32 (Backcountry Recreation, Non-motorized) to 3.31 (Backcountry Recreation, year-round Motorized). This alternative would also allow motorcycle use to continue on trail 1135. All other activities associated with this alternative would be identical to the Proposed Action, except installation of physical barriers to the trail. Selection of this alternative would require an amendment to the Routt National Forest Plan.

Decisions to be Made: The Responsible Official must decide which alternative of those analyzed in the draft EIS to select for implementation. Based on the decision that is made, he will also decide what mitigation measures and monitoring requirements will be required.

Reviewer Obligations: The comment period on the draft EIS will be 45 days from the date the Environmental Protection agency publishes the notice of availability in the Federal Register. The comment period is expected to end May 25, 2001.

Release of Names: Comments received in response to this solicitation, including names and address of those who comment, will be considered part of the public record on this Proposed Action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without and address within ten (10) days.

ADDRESSES: Send written comments to Charles T. Oliver, District Ranger, Parks Ranger District, P.O. Box 158, Walden, Colorado, 80480.

FOR FURTHER INFORMATION CONTACT: David Austin, Project Coordinator, Medicine Bow-Routt National Forests, P.O. Box 158, Walden, Colorado, 80480. Telephone: (970)-723-8204.

Responsible Official: Charles T. Oliver, District Ranger; Parks Ranger District; Medicine Bow-Routt National Forests; P.O. Box 158; Walden, CO 80480.

As the Responsible Official, I will decide which, if any of the alternatives to be described in the draft Environmental Impact Statement will be implemented. I will document the decision and reasons for my decision in a Record of Decision.

Dated: April 4, 2001.
Mary H. Peterson,
Forest Supervisor.

[FR Doc. 01-9017 Filed 4-11-01; 8:45 am]

BILLING CODE 3410-GM-M